DEPARTMENT OF COMMERCE

International Trade Administration

North American Free-Trade Agreement (NAFTA), Article 1904 NAFTA Panel Reviews: Decision of the Panel

AGENCY: NAFTA Secretariat, United States Section, International Trade Administration, Department of Commerce.

ACTION: Notice of decision of NAFTA Panel.

SUMMARY: On October 15, 2002 the NAFTA Panel issued its decision in the matter of Pure Magnesium from Canada, Secretariat File No. USA-CDA-00-1904-06.

FOR FURTHER INFORMATION CONTACT: Caratina L. Alston, United States Secretary, NAFTA Secretariat, Suite 2061, 14th and Constitution Avenue, Washington, DC 20230, (202) 482-5438.

SUPPLEMENTARY INFORMATION: Chapter 19 of the North American Free-Trade Agreement (“Agreement”) establishes a mechanism to replace domestic judicial review of final determinations in antidumping and countervailing duty cases involving imports from a NAFTA country with review by independent binational panels. When a Request for Panel Review is filed, a panel is established to act in place of national courts to review expeditiously the final determinations to determine whether it conforms with the antidumping or countervailing duty law of the country that made the determination.

Under Article 1904 of the Agreement, which came into force on January 1, 1994, the Government of the United States, the Government of Canada and the Government of Mexico established Rules of Procedure for Article 1904 Binational Panel Reviews (“Rules”). These Rules are published in the Federal Register on February 23, 1994 (59 FR 8686). The panel review in this matter was conducted in accordance with these Rules.

Background Information: On August 4, 2000, the Government of Quebec filed a First Request for Panel Review with the U.S. Section of the NAFTA Secretariat pursuant to Article 1904 of the North American Free Trade Agreement. Panel review was requested of the Final Results of the Full Sunset Review made by the International Trade Administration respecting Pure Magnesium from Canada. This determination was published in the Federal Register on July 5, 2000 (65 FR 41,436). The request was assigned File No. USA-CDA-00-1904-06.

Panel Decision: The Panel remanded this matter back to the Department (i) for further consideration of the record concerning the “other factors” which are required to be taken into account pursuant to our conclusion in Sections 2 and 3 of this opinion; (ii) to reconsider whether the normal preference for the investigation rate should not be followed here.

The Panel ordered the Department to issue a determination on remand consistent with the instructions set forth in the Panel's decision. The determination on remand shall be issued within sixty (60) days of the date of the Order (not later than December 16, 2002).

Dated: October 17, 2002.
Caratina L. Alston,
U.S. Secretary, NAFTA Secretariat.

[FR Doc. 02-27707 Filed 10-30-02; 8:45 am]

BILLING CODE 3510-GT-M